DEPARTMENT OF THE INTERIOR

National Park Service

[NPS-SERO-MEMY-NPS0030535; PPSESEROC3.PPMPSAS1Y.YP0000]

Medgar and Myrlie Evers Home National Monument

AGENCY: National Park Service, Interior.

ACTION: Notice.

SUMMARY: As authorized by the John D. Dingell, Jr. Conservation, Management, and Recreation Act, the National Park Service announces that the Secretary of the Interior (Secretary) has established, in the State of Mississippi, Medgar and Myrlie Evers Home National Monument (National Monument) as a unit of the National Park System. This National Monument is established to preserve, protect, and interpret for the benefit of present and future generations resources associated with the pivotal roles of Medgar and Myrlie Evers in the American Civil Rights Movement.

FOR FURTHER INFORMATION CONTACT: Lance Hatten, Deputy Regional Director, National Park Service, South Atlantic Gulf Regional Office at (404) 507-5605.

SUPPLEMENTARY INFORMATION: Section 2301 of the John D. Dingell, Jr. Conservation, Management, and Recreation Act, Public Law 116-9 includes a specific provision relating to establishment of this unit of the National Park System. To establish the National Monument, the Secretary must determine that a sufficient quantity of land, or interests in land, has been acquired to constitute a manageable park unit. The National Park Service typically publishes notice of the establishment of the new System unit in the Federal Register no later than 30 days after the Secretary makes a determination of this sort.

Medgar Evers was the first Mississippi field secretary for the National Association for the Advancement of Colored People (NAACP) and was at the forefront of every major civil rights event in Mississippi from 1955 until his assassination in 1963. While Medgar was the public face of the NAACP in Mississippi, Myrlie Evers worked behind the scenes running the NAACP field office in Jackson, drafting speeches, and providing personal and logistical support for her husband and other civil rights workers. After her husband's death, Myrlie assumed a public role in the civil rights movement. Soon after his funeral, she began speaking at NAACP events across the nation, eventually becoming the first woman to chair the board of the NAACP from 1995 to 1998.

The assassination of Medgar Evers on June 12, 1963, in the carport of the couple's home was the first murder of a civil rights leader that focused national attention on the civil rights movement. His death heightened public awareness throughout the United States of civil rights issues and became one of the catalysts for the passage of the Civil Rights Act of 1964. The National Park Service acquired by general warranty deed the fee simple interests in the approximately 0.15-acre parcel of land that includes the family home on June 18, 2020.

On November 9, 2020, the Secretary of the Interior signed a Decision Memorandum determining that a sufficient quantity of land, or interests in land, had been acquired to constitute a manageable park unit. With the signing of this Decision Memorandum by the Secretary, the site to be known as the “Medgar and Myrlie Evers Home National Monument” was established as a unit of the National Park System, effective November 9, 2020, and is subject to all laws, regulations, and policies pertaining to such units.

Margaret Everson,
Counselor to the Secretary, Exercising the Delegated Authority of the Director.

[FR Doc. 2020-26693 Filed 12-3-20; 8:45 am]

BILLING CODE 4312-52-P